DEPARTMENT OF TRANSPORTATION

Office of the Secretary

Aviation Proceedings, Agreements Filed the Week Ending December 27, 2002

The following Agreements were filed with the Department of Transportation under the provisions of 49 U.S.C. 412 and 414. Answers may be filed within 21 days after the filing of the application.

Docket Number: OST-2002-14151.

Date Filed: December 23, 2002.

Parties: Members of the International Air Transport Association.

Subject: TC31 North and Central Pacific—TC3-Central America, South America.

PTC31 N&C/CIRC 0228 dated November 19, 2002

TC3-Central America, South America Resolutions r-1-r-14

Tables—PTC31 N&C/CIRC Fares 0096 dated November 26, 2002

Minutes—PTC31 N&C/CIRC 0232 dated December 20, 2002

Intended effective date: April 1, 2003

Docket Number: OST-2002-14164.

Date Filed: December 23, 2002.

Parties: Members of the International Air Transport Association.

Subject:

TC31 North and Central Pacific and TC31 Circle Pacific

PTC31 N&C/CIRC 0224 dated November 19, 2002

PTC31 N&C/CIRC 0225 dated November 19, 2002

PTC31 N&C/CIRC 0226 dated November 19, 2002

PTC31 N&C/CIRC 0227 dated November 19, 2002

PTC31 N&C/CIRC 0229 dated November 19, 2002

Minutes—PTC31 N&C/CIRC 0232 dated December 20, 2002

Tables—PTC31 N&C/CIRC FARES 0093 dated November 26, 2002

PTC31 N&C/CIRC FARES 0094 dated November 26, 2002

PTC31 N&C/CIRC FARES 0095 dated November 26, 2002

Intended effective date: April 1, 2003.

Dorothy Y. Beard,
Federal Register Liaison.

[FR Doc. 03-687 Filed 1-13-03; 8:45 am]

BILLING CODE 4910-62-P